DEPARTMENT OF HEALTH AND HUMAN SERVICES

Agency for Healthcare Research and Quality

Meeting of the Citizens' Health Care Working Group

AGENCY: Agency for Healthcare Research and Quality (AHRQ), HHS.

ACTION: Notice of public meeting and hearing.

SUMMARY: In accordance with section 10(a) of the Federal Advisory Committee Act, this notice announces a meeting and hearing of the Citizens' Health Care Working Group mandated by section 1014 of the Medicare Modernization Act.

DATES: The meeting will be held on Thursday, July 21, 2005, from 1 p.m. to 5 p.m. The hearing will be held Friday, July 22, 2005, from 8:30 a.m. to 3:30 p.m.

ADDRESSES: The meeting will be held at Intermountain Health Care, Board Room 22, 22nd Floor, 36 South State Street, Salt Lake City, Utah 84111. The hearing will be held at the Salt State Capitol, Room 125 West Building, 350 North Main Street, Salt Lake City, Utah 84101. The meeting and hearing are open to the public.

FOR FURTHER INFORMATION CONTACT: Caroline Taplin, Citizens' Health Care Working Group, at (301) 443-1514 or ctaplin@ahrq.gov. If sign language interpretation or other reasonable accommodation for a disability is needed, please contact Mr. Donald L. Inniss, Director, Office of Equal Employment Opportunity Program, Program Support Center, on (301) 443-1144.

The agenda and roster is available on the Citizens' Working Group Web site http://www.citizenshealth.ahrq.gov. When transcriptions of the Group's July 21 and 22 meeting and hearing are completed, they will be available on the website.

SUPPLEMENTARY INFORMATION: Section 1014 of Public Law 108-173, (known as the Medicare Modernization Act) directs the Secretary of the Department of Health and Human Services (DHHS), acting through the Agency for Healthcare Research and Quality, to establish a Citizens' Health Care Working Group (Citizen Group). This statutory provision, codified at 42 U.S.C. 299 n., directs the Working Group to: (1) Identify options for changing our health care system so that every American has the ability to obtain quality, affordable health care coverage; (2) provide for a nationwide public debate about improving the health care system; and (3) submit its recommendations to the President and the Congress.

The Citizens' Health Care Working Group is composed of 15 members: the Secretary of DHHS is designated as a member by the statute and the Comptroller General of the U.S. Government Accountability Office (GAO) was directed to appoint the remaining 14 members. The Comptroller General announced the 14 appointments on February 28, 2005. A list of the Working group members is available on the Citizens' Working Group Web site http://www.citizenshealth.ahrq.gov.

Agenda

The meeting on July 21 will be devoted to ongoing Working Group business. Topics to be addressed at the meeting include the work plan for the Working Group, its required Report to the American People and continuing discussion regarding approaches for conducting the community meetings also required by the statute.

At the hearing on July 22, David Walker, Comptroller General of the United States, will give the first presentation. His remarks will be followed by three panels on these topics: health care quality; health information technology and employer/employee initiatives addressing health care quality.

Submission of Written Information

In general, individuals or organizations wishing to provide written information for consideration by the Citizens' Health Care Working Group should submit information electronically to citizenshealth@ahrq.hhs.gov. The Working Group invites submissions that address the topics to be addressed at the July 21 meeting listed above. Since all electronic submissions will be posted on the Working Group Web site, separate submissions by topic will facilitate review of ideas submitted on each topic by the Working Group and the public.

Dated: July 7, 2005.
Carolyn M. Clancy,
Director.

[FR Doc. 05-13719 Filed 7-8-05; 9:36 am]

BILLING CODE 4160-90-M